DEPARTMENT OF THE INTERIOR

National Park Service

36 CFR Part 7

[NPS-MORA-34555; Docket No. NPS-2022-0002; PPPWMORAS1 PPMPSPD1Z.YM0000]

RIN 1024-AE66

Mount Rainier National Park; Fishing

AGENCY: National Park Service, Interior.

ACTION: Final rule.

SUMMARY: The National Park Service removes from the Code of Federal Regulations special fishing regulations for Mount Rainier National Park, including those that restrict the take of nonnative species. Instead, the National Park Service will publish closures and restrictions related to fishing in the Superintendent's Compendium for the park. This action helps implement a 2018 Fish Management Plan that aims to conserve native fish populations and restore aquatic ecosystems by reducing or eliminating nonnative fish.

DATES: This rule is effective on February 21, 2023.

ADDRESSES:

Docket: For access to the docket to read background documents or comments received, go to https://www.regulations.gov and search for “1024-AE66.”

Document Availability: The Mount Rainier National Park Fish Management Plan Environmental Assessment and Finding of No Significant Impact provide information and context for this rule and are available online at https://parkplanning.nps.gov/mora by clicking the link entitled “Archived Projects” and then clicking the link entitled “2018 Mount Rainier National Park Fisheries Management Plan Environmental Assessment and Finding of No Significant Impact” and then clicking the link entitled “Document List.”

FOR FURTHER INFORMATION CONTACT: Kevin Skerl, Deputy Superintendent, Mount Rainier National Park, National Park Service; phone: (360) 569-2211; email: kevin_skerl@nps.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

Significance of the Park

Mount Rainier National Park encompasses 236,381 acres in west central Washington, on the western and eastern slopes of the Cascade Range. About 83 percent of the park is located in Pierce County and 17 percent is located in Lewis County. The park's northern boundary is approximately 65 miles southeast of the Seattle-Tacoma metropolitan area and 65 miles west of Yakima. The elevations of the park range from about 1,400 feet at the Tahoma Woods Administrative Site to 14,410 feet at the summit of Mount Rainier. About two million people visit the park annually, with most visitation (75 percent) occurring between June and September. In 1988, Congress designated approximately 97 percent (228,480 acres) of the park as wilderness under the Washington Park Wilderness Act.

The focal point of the park is Mount Rainier, a towering snow- and ice-covered volcano that is a prominent landmark in the Pacific Northwest. Mount Rainier is the second most seismically active and the most hazardous volcano in the Cascade Range. The 26 major glaciers that flank the upper mountain cover 35 square miles. Steep glaciated valleys and ice-carved peaks dominate the park landscape. The Carbon, Mowich, White, West Fork White, Nisqually, South Puyallup, and North Puyallup rivers and their tributaries carry water from Mount Rainier to Puget Sound. The Ohanapecosh and Muddy Fork Cowlitz flow into the Cowlitz River and on into the Columbia River. There are approximately 470 mapped rivers and streams, including approximately 383 perennial streams and 84 intermittent streams. With very few exceptions, park rivers and streams originate within the park. There are approximately 382 lakes and ponds, and over 3,000 acres of other wetland types (e.g., mineral geothermal springs, waterfalls) in the park.

Fish Resources in the Park

The following 15 fish species are present in the rivers, streams and lakes within the park. Of these, eight are native and seven are nonnative.

No. | Scientific name | Common name | Occurrence
1 | Oncorhynchus mykiss | rainbow trout | Native (in some locations).
2 | Oncorhynchus clarkii clarkii | coastal cutthroat trout | Native.
3 | Salvelinus confluentus | bull trout | Native.
4 | Oncorhynchus kisutch | coho salmon | Native.
5 | Oncorhynchus tshawytscha | chinook salmon | Native.
6 | Oncorhynchus gorbuscha | pink salmon | Native.
7 | Prosopium williamsoni | mountain whitefish | Native.
8 | Cottus confusus | shorthead sculpin | Native.
9 | Cottus cognatus | slimy sculpin | Nonnative.
10 | Cottus rhotheus | torrent sculpin | Nonnative.
11 | Oncorhynchus clarkii bouvieri | Yellowstone cutthroat trout | Nonnative.
12 | Oncorhynchus clarkii lewisi | westslope cutthroat trout | Nonnative.
13 | Salvelinus fontinalis | brook trout | Nonnative.
14 | Gasterosteus aculeatus | Alaskan stickleback, threespined stickleback | Nonnative.
15 | Oncorhynchus nerka | kokanee salmon | Nonnative.

Fish populations naturally occur within the park in the nine large valley bottom rivers and their tributary junctions up to natural fish barriers. These rivers bear native fish populations of rainbow (steelhead) trout (Oncorhynchus mykiss), coastal cutthroat trout (Oncorhynchus clarkii clarkii), bull trout (Salvelinus confluentus), coho salmon (Oncorhynchus kisutch), chinook salmon (Oncorhynchus tshawytscha), pink salmon (Oncorhynchus gorbuscha), mountain whitefish (Prosopium williamsoni) and shorthead sculpin (Cottus confusus). Nonnative sculpins present in the rivers include slimy sculpin (C. cognatus) and torrent sculpin (Cottus rhotheus).

Prior to stocking efforts, there were no naturally occurring fish populations in any of the approximately 382 mapped lakes and ponds in the park. With the exception of those mentioned above, most of the mapped streams were also originally fishless. Early in the park's history, the National Park Service (NPS) and others, including the State of Washington, introduced nonnative stocks of rainbow trout (Oncorhynchus mykiss), Yellowstone cutthroat trout (Oncorhynchus clarkii bouvieri), westslope cutthroat trout (Oncorhynchus clarkii lewisi), brook trout (Salvelinus fontinalis) and kokanee salmon (Oncorhynchus nerka) to enhance recreational fishing. According to unpublished NPS records, official stocking occurred from 1915 through 1964 (49 years) in 38 streams, and from 1915 through 1972 (57 years) in 44 lakes. Stocking fish resulted in reproducing populations of nonnative fish in naturally fishless lakes. It also resulted in reproducing populations of nonnative fish in some rivers and streams where they compete with native fish. Additional unauthorized introductions of nonnative fish, including threespined stickleback (Gasterosteus aculeatus), have occurred since stocking ended. Reproducing populations of nonnative fish are now present in approximately 35 lakes and all of the park watersheds, including many streams and the nine major rivers. All lakes with reproducing nonnative fish populations are in designated wilderness with the exception of Littorals Pond (White River watershed) and Tipsoo Lake.

The presence of nonnative fish in the park has had widespread adverse effects on the distribution, abundance, age structure, genetics, and behavior of native fish species, amphibians, and other aquatic life. Nonnative fish prey on and compete with native fish, particularly bull trout. As a result, over time, populations of native fish within and outside the park have likely diminished where brook trout and other nonnative fish populations have been established. The U.S. Fish and Wildlife Service (USFWS) and National Marine Fisheries Service (NMFS) have listed populations of bull trout, chinook salmon, and steelhead within the park as threatened under the Endangered Species Act (ESA). In 2010, the USFWS designated approximately 30 miles of streams in the park as bull trout critical habitat. In 2015, the USFWS issued a Bull Trout Recovery Plan that identified actions the NPS should take to protect bull trout within the park.

NPS Authority To Manage Fishing

The NPS has sole and exclusive jurisdiction over the lands and waters within Mount Rainier National Park. 16 U.S.C. 95. The park's enabling act directs the Secretary of the Interior, acting through the NPS, to make such regulations as the Secretary deems necessary or proper to care for the park, including regulations that provide against the wanton destruction of the fish and game found within the park, and against their capture or destruction for the purposes of merchandise or profit. 16 U.S.C. 92. The NPS administers the park as a unit of the National Park System and has the authority to regulate the use of the park as it considers necessary or proper. 54 U.S.C. 100751(a). This includes the authority to regulate activities on water located within the park that is subject to the jurisdiction of the United States. 54 U.S.C. 100751(b).

NPS Management Framework for Fishing

General NPS fishing regulations are found in 36 CFR 2.3 and apply to all units of the National Park System. For example, section 2.3(d)(4) prohibits commercial fishing in System units, except where specifically authorized by Federal statute. Recreational fishing is allowed within the System in accordance with state law, provided that the state law does not conflict with NPS fishing regulations. 36 CFR 2.3(a). Special fishing regulations are found in 36 CFR part 7 and apply only in specific System units that have promulgated special regulations for this purpose. Other closures and restrictions related to fishing are established by the Superintendent under his or her discretionary authority in 36 CFR 1.5. This authority allows Superintendents to close all or a portion of a park area to a specific use or activity or impose conditions or restrictions on a use or activity. Pursuant to 36 CFR 1.7(b), these actions do not appear in 36 CFR, but are compiled and maintained in what is commonly known as the Superintendent's Compendium. The Superintendent's Compendium is typically available on the System unit's website. Actions taken by the Superintendent under the authority in 36 CFR 1.5 may not conflict with regulations found in the CFR, including the general fishing regulations in section 2.3.

NPS Management of Fishing in the Park

Special fishing regulations for the park are found in 36 CFR 7.5(a). The NPS promulgated these regulations in 1969 (34 FR 17520) and last amended them in 1976 (41 FR 14863). The regulations close the following areas to all fishing: (i) Tipsoo Lake; (ii) Shadow Lake; (iii) Klickitat Creek above the White River entrance water supply intake; (iv) Laughingwater Creek above the Ohanapecosh water supply intake; (v) Frozen Lake; (vi) Reflection Lakes; and (vii) Ipsut Creek above the Ipsut Creek Campground water supply intake. 36 CFR 7.5(a)(1). The special regulations also close the Ohanapecosh River and its tributaries to all fishing except for fishing with artificial flies. 36 CFR 7.5(a)(2). The regulations state that there shall be no minimum size limit on fish that may be possessed. 36 CFR 7.5(a)(3). The regulations state that the daily catch and possession limit for fish taken from park waters shall be six pounds and one fish, not to exceed 12 fish. 36 CFR 7.5(a)(4).

Other closures and restrictions related to fishing appear in the Superintendent's Compendium for the park, which is available on the park's website at https://www.nps.gov/mora/learn/management/lawsandpolicies.htm. Several of these closures and restrictions are intended to conserve native fish species and reduce or eliminate nonnative species. The Compendium states that all native fish species caught in rivers and streams must be released, but that kokanee and brook trout (both nonnative species) may be retained with no limit. The purpose of this Compendium action is to protect native fish species by requiring catch-and-release and to reduce populations of nonnative species by allowing them to be removed from the park. The Compendium prohibits multipoint hooks with barbs in rivers and streams to cause less injury to native species that will be released. The Compendium prohibits lead fishing tackle anywhere in the park to avoid poisoning aquatic biota and humans. The Compendium closes Fryingpan Creek above the confluence of the White River to all fishing. This closure protects native fish species (bull trout, chinook salmon, and steelhead) that are listed as threatened under the ESA. The Compendium also closes Ghost Lake and Edith Creek Basin above the Paradise water supply to protect the potable water supply for White River and Paradise. The Compendium establishes fishing seasons for rivers and streams to protect the spawning season of listed, native species. Where fishing is allowed in lakes, there are no seasonal closures or limits on retaining any fish species because, as noted above, fish are not native to lakes within the park.

In September 2017, the NPS published a Fish Management Plan/Environmental Assessment (the Plan). The purpose of the Plan is to direct long-term management for fish within lakes, rivers and streams within the park. During the development of the Plan, the NPS solicited information from the USFWS, the NMFS, the Washington Department of Fish and Wildlife (WDFW), the Washington State Historic Preservation Office, and six affiliated American Indian tribes: the Nisqually Tribe of Indians, the Muckleshoot Indian Tribe, the Cowlitz Indian Tribe, the Puyallup Tribe of Indians, the Squaxin Island Tribe, and the Confederated Tribes and Bands of the Yakama Nation. The U.S. Forest Service, Mount Baker-Snoqualmie National Forest, also submitted comments during the public scoping period that occurred before the Plan was published. The Plan was open for a 30-day public comment period.

On August 28, 2018, the Regional Director for Department of the Interior Unified Regions 8, 9, and 10 (formerly the Pacific West Region) approved a Finding of No Significant Impact (FONSI) selecting Alternative 2 in the Plan for implementation. This alternative calls for site-specific management actions to encourage recreational fishing opportunities for nonnative species and to protect native fish and habitat. In addition to increasing recreational angling opportunities for nonnative species, the alternative calls for suppressing or eradicating nonnative fish populations through administrative actions such as gillnetting, seining, electrofishing, and piscicides in selected locations. The selected alternative is consistent with actions required by the 2015 Bull Trout Recovery Plan issued by the USFWS. The NPS expects the eradication or suppression of nonnative fish to result in the increased survival and abundance of threatened and endangered species (bull trout, chinook salmon and steelhead) and improved habitat for native species. The Plan, which contains a full description of the purpose and need for taking action, the alternatives considered, and the environmental impacts associated with the considered alternatives, and the FONSI may be viewed on the park's planning website at https://parkplanning.nps.gov/mora by clicking on the link entitled “Archived Projects” and then clicking the link entitled “2018 Mount Rainier National Park Fisheries Management Plan Environmental Assessment and Finding of No Significant Impact” and then clicking the link entitled “Document List.”

Final Rule

This rule removes special fishing regulations for the park that interfere with the successful implementation of the fish management strategy identified in the FONSI. These include the following closures and restrictions that limit the take of nonnative fish: (1) closures at Ipsut Creek and (except for artificial flyfishing) the Ohanapecosh River; and (2) a daily catch and possession limit of six pounds and one fish, not to exceed 12 fish. Removing these closures and restrictions will create new angling opportunities for nonnative species that are currently not authorized by 36 CFR 7.5. The other closures and restrictions currently codified in the special regulations will be relocated to and maintained in the Superintendent's Compendium because either they are necessary to protect the domestic potable water supply for White River, Sunrise, Ohanapecosh, and Paradise (the closures of Frozen Lake and streams with identified water supply intakes); or to protect fragile riparian vegetation (the closures of Tipsoo Lake, Shadow Lake and Reflection Lakes). Closures and restrictions in the special regulations also apply to the take of native fish species. These will be retained or modified in the Superintendent's Compendium, consistent with the selected alternative in the FONSI, to help restore the natural abundance, diversity, dynamics, distribution, habitats and behaviors of native fish populations that were present in the park prior to the introduction of nonnative fish. The administrative flexibility offered by the Superintendent's Compendium, which in most circumstances can be modified without notice and comment rulemaking (see 36 CFR 1.5(b)), provides a feasible and responsive method to meet the strategic goals identified in the FONSI to utilize adaptive management to alter management activities when needed based on monitoring and best available science. NPS regulations at 36 CFR 1.7(b) require the Superintendent to update the Compendium at least annually. The NPS will ensure that the public has an opportunity to provide meaningful input prior to updating any closures or restrictions related to fishing in the Compendium.

Consolidating all fishing closures and restrictions in the Compendium will make them more accessible and user-friendly for the public. Instead of having to look in two different places (the special regulations in 36 CFR 7.5 and the Superintendent's Compendium on the park's website), the public will be able to find all closures and restrictions related to fishing in one place. The NPS has already done this, informally, by producing a fishing pamphlet that is available at the park's website at https://www.nps.gov/mora/planyourvisit/fishing-and-boating.htm. Moving all of the closures and restrictions related to fishing into the Compendium will consolidate the official versions of them in one place for legal purposes. Centralizing them in the Compendium will increase compliance, strengthen enforcement, and decrease public confusion and frustration. The NPS routinely responds to inquiries and requests for clarification from the State of Washington and members of the public regarding fishing opportunities and rules within the park. Placing all fishing closures and restrictions in the Compendium will help visitors understand the rules and become better stewards of fishery resource at the park. In order to direct the public to the Compendium, the NPS is replacing the existing language in paragraph (a) of section 7.5 with a general statement that the Superintendent will establish fishing closures and restrictions, based on management objectives described in the park's resource management plans, in accordance with the criteria and procedures in 36 CFR 1.5 and 1.7, including publication in the Superintendent's Compendium. The rule also states that fishing in closed waters or violating a fishing restriction established by the Superintendent is prohibited. Similar language is used in the special regulations for other NPS units, including Glacier National Park (36 CFR 7.3) and Rocky Mountain National Park (36 CFR 7.7).

Summary of Public Comments

The NPS published a proposed rule in the Federal Register on January 11, 2022 (87 FR 1374). The NPS accepted public comments on the proposed rule for 60 days via the mail, hand delivery, and the Federal eRulemaking Portal at https://www.regulations.gov. Comments were accepted through March 14, 2022. A total of 27 comments were submitted and reviewed. Many commenters supported the proposed rule and did not raise any issues or suggest any changes. Some commenters raised concerns or questions about the proposed rule that the NPS summarizes and responds to below. After considering the public comments and after additional review, the NPS did not make any changes in the final rule.

1. Comment: One commenter asked if there is oversight of management decisions implemented through the Superintendent's Compendium and whether the WDFW would be involved in such management decisions to ensure the protection of native fish species.

NPS Response: NPS regulations at 36 CFR 1.5 require the Superintendent to follow specific procedures and requirements in order to use discretionary authority to implement closures and restrictions related to visitor use of park areas. The Superintendent must prepare a written determination justifying each action and use appropriate methods to notify the public of any such closures or restrictions. All such actions must be listed in the Compendium, which must be available to the public and updated at least annually. Compendium actions must be consistent with federal law and policy and may not be highly controversial or otherwise significant without going through a public notice and comment review process.

A primary purpose of the Plan is to promote the recovery of native fish species in the park. The NPS will continue to collaborate with the WDFW as it implements the selected alternative in the FONSI to achieve this goal. Continued collaboration may include identifying barriers to restoration of native fish species and ecosystem recovery within the park and, where possible, addressing issues outside the park such as fish stocking practices and barriers to fish migration downstream of the park. The NPS will ensure that the public and its partners, including WDFW, have an opportunity to provide meaningful input prior to updating any closures or restrictions related to fishing in the Compendium.

2. Comment: Several commenters questioned how the NPS will enforce requirements to release native species that are incidentally caught in rivers and streams as bycatch. One commenter suggested that dynamic closures of park areas would more effectively reduce bycatch and be more easily enforced.

NPS Response: In some situations, catch and release requirements may be more difficult to enforce than closures that prohibit all fishing in certain locations; however, enforcing catch and release requirements is not unique and occurs in many park areas with recreational fishing. The NPS believes that placing all closures and restrictions related to fishing in the Compendium will increase compliance and strengthen enforcement because it will be easier for the public understand what is allowed. The NPS has implemented closures in areas where the probability of ESA-protected bycatch is high (e.g., Fryingpan) and also seasonal restrictions to protect spawning native species. The NPS will evaluate and modify management actions as needed if monitoring shows unanticipated adverse effects on native fish species.

3. Comment: Several commenters emphasized the importance of educating anglers to increase compliance with fishing closures and restrictions. One commenter suggested the NPS develop and promote interactive educational classes and activities to inform visitors about fishing rules and aquatic resources in the park.

NPS Response: The NPS agrees that educating anglers is critical to compliance and has developed a robust educational strategy to communicate how closures and restrictions will help achieve the purpose and goals of the Plan. In addition to the continued use and distribution of the fishing pamphlet, the NPS is developing a software application and a fishing guide that will provide information about fishing in the park and the status of fish species and habitats. The NPS will also send roving interpreters throughout the park to provide information directly to recreational anglers.

4. Comment: One commenter asked whether the rule would adversely affect recreational fishing if less fish are present in the park.

NPS Response: Catch and release fishing opportunities will continue to be available in most rivers and streams for some time during implementation of the Plan. A few small lakes with small fish populations may be fished out by anglers. At the same time, there will be widespread benefits to native fish and amphibian populations in areas where nonnative fish are removed, which will increase the ability of anglers and other visitors to see and to interact with native fish, amphibians and other species in their habitats throughout the park. Because it will likely take decades before the NPS can implement fish removal programs throughout the park, diminished fishing opportunities would occur in stages over time, reducing the overall impact of this recreational loss. Because fishing has consistently been rated low on the scale of recreational activities that visitors engage in during visitor surveys, this loss would likely be imperceptible to most park visitors.

5. Comment: One commenter asked the NPS to support local businesses and restaurants by giving them preferential rights to fish in the park or allowing them to use nonnative fish that are removed through administrative actions such as gillnetting, seining and electrofishing.

NPS Response: NPS regulations at 36 CFR 2.3(d)(4) prohibit commercial fishing in National Park System units, except where specifically authorized by Federal statute The park's enabling act does not authorize commercial fishing. Instead, it directs the NPS to prohibit the capture of fish for merchandise or profit. As a result, the NPS cannot allow local businesses or restaurants to take fish in the park for commercial purposes. Most administrative actions capturing nonnative fish occur in backcountry locations where transportation of the fish outside of the park is not feasible. In most cases, the fish are too small to have value for local businesses and restaurants.

6. Comment: One commenter stated native fish populations could be restored more quickly if there are no catch limits on nonnative fish species except those that are vital for maintaining potable water in the White River, Sunrise, Ohanapecosh, and Paradise waterways.

NPS Response: The NPS agrees that through the capture of nonnative species, anglers can play an important role in the conservation and recovery of native species in the park. In many lakes, rivers and streams in the park, anglers are essential for suppressing nonnative species. For these reasons, the rule would remove the daily catch limit in the special regulations in order to allow the retention of brook trout and kokanee salmon from rivers and streams and all nonnative fish from lakes that are open to recreational fishing. Except for brook trout and kokanee salmon, anglers may not retain other nonnative species from rivers and streams because those species are too difficult to distinguish from native species that must be released. The Compendium will continue to close Tipsoo Lake, Shadow Lake and Reflection Lakes to all fishing in order to protect fragile riparian vegetation.

Compliance With Other Laws, Executive Orders and Department Policy

Regulatory Planning and Review (Executive Orders 12866 and 13563)

Executive Order 12866 provides that the Office of Information and Regulatory Affairs in the Office of Management and Budget will review all significant rules. The Office of Information and Regulatory Affairs has determined that this rule is not significant.

Executive Order 13563 reaffirms the principles of Executive Order 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. Executive Order 13563 emphasizes further that regulations must be based on the best available science and that the rulemaking process must allow for public participation and an open exchange of ideas. The NPS has developed this rule in a manner consistent with these requirements.

Regulatory Flexibility Act

This rule will not have a significant economic effect on a substantial number of small entities under the Regulatory Flexibility Act (5 U.S.C. 601 et seq.). This certification is based on information contained in the economic analyses found in the report entitled “Cost-Benefit and Regulatory Flexibility Threshold Analyses: Proposed Rule to Remove Special Regulations for Fishing at Mount Rainier National Park.” The document may be viewed on the park's planning website at https://parkplanning.nps.gov/mora by clicking on the link entitled “Archived Projects” and then clicking the link entitled “2018 Mount Rainier National Park Fisheries Management Plan Environmental Assessment and Finding of No Significant Impact” and then clicking the link entitled “Document List” and then clicking on the link entitled “Fish Management Plan FONSI.”

Congressional Review Act

This rule is not a major rule under 5 U.S.C. 804(2). This rule:

(a) Does not have an annual effect on the economy of $100 million or more.

(b) Will not cause a major increase in costs or prices for consumers, individual industries, federal, State, or local government agencies, or geographic regions.

(c) Does not have significant adverse effects on competition, employment, investment, productivity, innovation, or the ability of U.S.-based enterprises to compete with foreign-based enterprises.

Unfunded Mandates Reform Act

This rule will not impose an unfunded mandate on State, local, or tribal governments or the private sector of more than $100 million per year. The rule will not have a significant or unique effect on State, local or tribal governments or the private sector. It addresses public use of national park lands and imposes no requirements on other agencies or governments. A statement containing the information required by the Unfunded Mandates Reform Act (2 U.S.C. 1531 et seq.) is not required.

Takings (Executive Order 12630)

This rule will not effect a taking of private property or otherwise have takings implications under Executive Order 12630. A takings implication assessment is not required.

Federalism (Executive Order 13132)

Under the criteria in section 1 of Executive Order 13132, the rule will not have sufficient federalism implications to warrant the preparation of a federalism summary impact statement. This rule only affects use of federally administered lands and waters. It has no outside effects on other areas. A federalism summary impact statement is not required.

Civil Justice Reform (Executive Order 12988)

This rule complies with the requirements of Executive Order 12988. This rule:

a. Meets the criteria of section 3(a) requiring that all regulations be reviewed to eliminate errors and ambiguity and be written to minimize litigation; and

b. Meets the criteria of section 3(b)(2) requiring that all regulations be written in clear language and contain clear legal standards.

Consultation With Indian Tribes (Executive Order 13175 and Department Policy)

The Department of the Interior strives to strengthen its government-to-government relationship with Indian Tribes through a commitment to consultation with Indian tribes and recognition of their right to self-governance and tribal sovereignty. The NPS has evaluated this rule under the criteria in Executive Order 13175 and under the Department's tribal consultation policy and has determined that tribal consultation is not required because the rule will have no substantial direct effect on federally recognized Indian tribes. During scoping for the Plan, the NPS solicited comments from six affiliated American Indian tribes: the Nisqually Tribe of Indians, the Muckleshoot Indian Tribe, the Cowlitz Indian Tribe, the Puyallup Tribe of Indians, the Squaxin Island Tribe, and the Confederated Tribes and Bands of the Yakama Nation. The NPS will continue to work with these tribes throughout the implementation of the selected alternative in the FONSI.

Paperwork Reduction Act

This rule does not contain information collection requirements, and a submission to the Office of Management and Budget under the Paperwork Reduction Act is not required. The NPS may not conduct or sponsor and you are not required to respond to a collection of information unless it displays a currently valid OMB control number.

National Environmental Policy Act (NEPA)

The NPS has prepared the Plan to determine whether this rule will have a significant impact on the quality of the human environment under the NEPA. This rule does not constitute a major Federal action significantly affecting the quality of the human environment. A detailed statement under the NEPA is not required because of the FONSI. A copy of the Plan and FONSI may be viewed on the park's planning website at https://parkplanning.nps.gov/mora by clicking on the link entitled “Archived Projects” and then clicking the link entitled “2018 Mount Rainier National Park Fisheries Management Plan Environmental Assessment and Finding of No Significant Impact” and then clicking the link entitled “Document List.”

Effects on the Energy Supply (Executive Order 13211)

This rulemaking is not a significant energy action under the definition in Executive Order 13211; the rule is not likely to have a significant adverse effect on the supply, distribution, or use of energy, and the rule has not otherwise been designated by the Administrator of the Office of Information and Regulatory Affairs as a significant energy action. A Statement of Energy Effects is not required.

List of Subjects in 36 CFR Part 7

National Parks, Reporting and recordkeeping requirements.

In consideration of the foregoing, the National Park Service amends 36 CFR part 7 as follows:

PART 7—SPECIAL REGULATIONS, AREAS OF THE NATIONAL PARK SYSTEM

1. The authority citation for part 7 continues to read as follows:

Authority: 54 U.S.C. 100101, 100751, 320102; Sec. 7.96 also issued under D.C. Code 10-137 and D.C. Code 50-2201.07.

2. In § 7.5, revise paragraph (a) to read as follows:

§ 7.5 Mount Rainier National Park

(a) Fishing. (1) Fishing closures and restrictions are established by the Superintendent based on management objectives for the preservation of the park's natural resources.

(2) The Superintendent may establish closures and restrictions, in accordance with the criteria and procedures of § 1.5 of this chapter, on any activity pertaining to fishing, including, but not limited to species of fish that may be taken, seasons and hours during which fishing may take place, methods of taking, and size, creel, and possession limits.

(3) Except in emergency situations, the Superintendent will notify the public of any such closures or restrictions through one or more methods listed in § 1.7 of this chapter, including publication in the Superintendent's Compendium (or written compilation) of discretionary actions referred to § 1.7(b).

(4) Fishing in closed waters or violating a condition or restriction established by the Superintendent under this paragraph (a) is prohibited.

* * * * *

Shannon Estenoz,
Assistant Secretary for Fish and Wildlife and Parks.

[FR Doc. 2022-27483 Filed 1-19-23; 8:45 am]

BILLING CODE 4312-52-P